DEPARTMENT OF AGRICULTURE

Animal and Plant Health Inspection Service

[Docket No. APHIS-2021-0019]

Bovine Tuberculosis Status Evaluation of Eight Mexican Regions and Intent To Classify Those Regions for Bovine Tuberculosis

AGENCY: Animal and Plant Health Inspection Service, USDA.

ACTION: Notice.

SUMMARY: We are advising the public that we are classifying eight Mexican regions for bovine tuberculosis as follows: The State of Sonora as Level II; the Yucatán Peninsula region (States of Yucatán and Quintana Roo, and part of the State of Campeche), the Huasteca region (parts of the States of Puebla, Veracruz, and Hidalgo), part of the State of Chihuahua, and part of the State of Durango as Level III; and part of the State of Coahuila, part of the State of Nuevo León, and the State of Tamaulipas as Level IV. These recognitions are based on an evaluation we have prepared in connection with this action, which we made available for review and comment.

DATES: This change in disease status will be recognized on March 3, 2023.

FOR FURTHER INFORMATION CONTACT: Dr. Kari Coulson, Import Risk Analyst, Regionalization Evaluation Services, Strategy and Policy, VS, APHIS, USDA, 920 Main Campus Drive, Venture II, 3rd floor, Raleigh, NC 27606; AskRegionalization@usda.gov; (919) 480-9876.

SUPPLEMENTARY INFORMATION: The regulations in 9 CFR part 93, subpart D (§§ 93.400 through 93.442, referred to below as part 93 or the subpart), contain requirements for the importation of ruminants into the United States to address the risk of introducing or disseminating diseases of livestock within the United States. Part 93 currently contains provisions that address the risk that imported bovines (cattle or bison) may introduce or disseminate bovine tuberculosis within the United States. Within part 93, § 93.437 contains the requirements for classification of foreign regions for bovine tuberculosis and § 93.438 contains the process for requesting regional classification for bovine tuberculosis.

In accordance with § 93.437(f), the Animal and Plant Health Inspection Service (APHIS) maintains lists of all Level I, Level II, Level III, Level IV, and Level V regions for bovine tuberculosis and adds foreign regions classified in accordance with § 93.438 to these lists. In accordance with § 93.437(e), regions that do not have a program that meets APHIS requirements for bovine tuberculosis classification, have a prevalence of bovine tuberculosis in their domestic bovine herds equal to or greater than 0.5 percent, or are unassessed by APHIS with regard to bovine tuberculosis are considered to be Level V.

In accordance with the process in § 93.438, we published a notice ¹ in the Federal Register on August 26, 2022 (87 FR 52500-52502, Docket No. APHIS-2021-0019), in which we announced the availability, for review and comment, of an evaluation of the State of Sonora; the Yucatán Peninsula region (States of Yucatán and Quintana Roo, and part of the State of Campeche); the Huasteca region (parts of the States of Puebla, Veracruz, San Luis Potosí, and Hidalgo); part of the State of Chihuahua, part of the State of Durango; part of the State of Coahuila; part of the State of Nuevo León; and the State of Tamaulipas. We detailed the findings and conclusions in a document titled “APHIS Evaluation of Eight Mexican Regions for Bovine Tuberculosis (M. bovis) Classification” (March 2022). The notice proposed to classify the Sonora region as Level II for bovine tuberculosis; the Yucatán Peninsula (States of Yucatán and Quintana Roo, and part of the State of Campeche), Huasteca (including parts of the States of Puebla, Veracruz, and Hidalgo, but excluding San Luis Potosí), Chihuahua, and Durango regions as Level III for bovine tuberculosis; and the Coahuila, Nuevo León, and Tamaulipas regions as Level IV for bovine tuberculosis.

¹ To view the notice and the evaluation, go to www.regulations.gov and enter APHIS-2021-0019 in the Search field.

We solicited comments on the notice for 60 days ending October 25, 2022. We did not receive any comments.

Therefore, based on the evaluation, we are classifying these eight regions of Mexico for bovine tuberculosis as described above and adding to the lists of regions classified for bovine tuberculosis status which is maintained on the APHIS website at https://www.aphis.usda.gov/aphis/ourfocus/animalhealth/animal-and-animal-product-import-information/animal-health-status-of-regions and scrolling down to “Bovine Tuberculosis.” Copies of the list are also available via postal mail, fax, or email from the person listed under FOR FURTHER INFORMATION CONTACT.

Congressional Review Act

Pursuant to the Congressional Review Act (5 U.S.C. 801 et seq.), the Office of Information and Regulatory Affairs designated this rule as not a major rule, as defined by 5 U.S.C. 804(2).

Authority: 7 U.S.C. 1622 and 8301-8317; 21 U.S.C. 136 and 136a; 31 U.S.C. 9701; 7 CFR 2.22, 2.80, and 371.4.

Done in Washington, DC, this 27th day of February 2023.
Michael Watson,
Acting Administrator, Animal and Plant Health Inspection Service.

[FR Doc. 2023-04374 Filed 3-2-23; 8:45 am]

BILLING CODE 3410-34-P